DEPARTMENT OF LABOR

Employment and Training Administration

[TA-W-72,862]

SKF Aeroengine Falconer a Subsidiary of AB SKF Including On-Site Leased Workers From Manpower Professionals, Manpower, Inc., Express Employment Professionals and HP Enterprise Services Falconer, NY; Amended Certification Regarding Eligibility To Apply for Worker Adjustment Assistance

In accordance with Section 223 of the Trade Act of 1974, as amended (“Act”), 19 U.S.C. 2273, the Department of Labor issued a Certification of Eligibility to Apply for Worker Adjustment Assistance on February 4, 2010, applicable to workers of SKF Aeroengine Falconer, a subsidiary of AB SKF, including on-site leased workers from Manpower Professionals, Manpower, Inc. and Express Employment Professionals, Falconer, New York. The notice was published in the Federal Register on March 12, 2010 (75 FR 11924).

At the request of the state, the Department reviewed the certification for workers of the subject firm. The workers are engaged in the production of precision ball and roller bearings.

The company reports that workers leased from HP Enterprise Services, were employed on-site at the Falconer, New York location of SKF Aeroengine Falconer, a subsidiary of AB SKF. The Department has determined that these workers were sufficiently under the control of the subject firm to be considered leased workers.

Based on these findings, the Department is amending this certification to include workers leased from HP Enterprise Services, working on-site at the Falconer, New York location of SKF Aeroengine Falconer, a subsidiary of AB SKF.

The amended notice applicable to TA-W-72,862 is hereby issued as follows:

All workers SKF Aeroengine Falconer, a subsidiary of AB SKF, including on-site leased workers from Manpower Professionals, Manpower, Inc., Express Employment Professionals and HP Enterprise Services, Falconer, New York, who became totally or partially separated from employment on or after November 8, 2008 through February 4, 2012, and all workers in the group threatened with total or partial separation from employment on the date of certification through two years from the date of certification, are eligible to apply for adjustment assistance under Chapter 2 of Title II of the Trade Act of 1974, as amended.”

Signed at Washington, DC, this 16th day of July 2010.
Michael W. Jaffe,
Certifying Officer, Division of Trade Adjustment Assistance.

[FR Doc. 2010-18827 Filed 7-30-10; 8:45 am]

BILLING CODE 4510-FN-P